DEPARTMENT OF THE INTERIOR

National Park Service

Draft General Management Plan and Environmental Impact Statement, New River Gorge National River, WV

AGENCY: National Park Service, Department of the Interior.

ACTION: Notice of availability of the Draft General Management Plan and Environmental Impact Statement for New River Gorge National River.

SUMMARY: Pursuant to the National Environmental Policy Act of 1969, 42 U.S.C. 4332(2)(C), the National Park Service announces the availability of the Draft General Management Plan and Environmental Impact Statement (Draft GMP/EIS) for New River Gorge National River, West Virginia. Consistent with National Park Service laws, regulations, and policies, and the purpose of the National River, the Draft GMP/EIS describes and analyzes five alternatives, including the no action alternative, to guide the management of the National River over the next 15 to 20 years. The alternatives incorporate various management prescriptions to ensure protection, access and enjoyment of the park's resources.

Alternative 1 is the no action alternative, which would continue current management and trends, with no major changes in direction.

Alternative 2 emphasizes the substantial differences among subareas of the gorge, improving them to reflect their differing character, resources, and visitor experiences. Management actions would build upon the cultural resource, interpretive, and recreational opportunities of the north and south ends of the park, while retaining a primitive and remote feeling in the middle of the park.

Alternative 3 would unify the park by providing a north-south through park hike and bike trail, enhancing existing scenic roads, and building new access and facilities in the middle of the park to balance opportunities for visitors throughout the park.

Alternative 4 recognizes river gateways and the rim to river experiences that take visitors to them as the primary access points and orientation venues in the park. River gateways would be enhanced to tell gorge stories while providing improved river, trail, and recreational access. The NPS and gateway communities would work cooperatively to enhance rim to river experiences.

Alternative 5 is the National Park Service's preferred alternative. Alternative 5 would preserve areas for primitive recreational experiences from end to end of the park. Interspersed with these primitive areas would be cultural and interpretive resource focal areas where visitors could explore communities and other places that once populated the gorge, experience the river, and enjoy a variety of recreational experiences. A north-south through park connector composed of improved scenic roads and trails would enable visitors to travel the length of the park, visit these areas, and access the backcountry. Partnerships with gateway communities and improved rim to river experiences would foster links to the park as a whole and to specific cultural and interpretive resource areas within the park.

The Draft GMP/EIS evaluates potential environmental consequences of implementing the five alternatives. It describes the affected natural, cultural, scenic, and socioeconomic environments within and near the park and analyzes potential impacts on park resources and values. Seventeen resource topics are addressed, including physiography, geology, and soils; floodplains; water quality; vegetation; aquatic wildlife; terrestrial wildlife; rare, threatened, and endangered species; scenic resources; archeological resources; cultural landscapes; historic structures; ethnographic resources; regional and local economy; communities; visitor use and visitor experience; park access; and park operations.

DATES: The National Park Service will accept comments on the Draft GMP/EIS from the public for 60 days from the date the Environmental Protection Agency publishes their Notice of Availability in the Federal Register. Public meetings will be held in Hinton, Beckley, and Fayetteville, West Virginia to solicit comments on the Draft GMP/EIS during the public review period. The dates, times, and locations will be announced on the park's Web site at http://www.nps.gov/neri; on the NPS Planning, Environment, and Public Comment (PEPC) Web site at http://parkplanning.nps.gov/neri; in local papers; and can also be obtained by contacting the park at (304) 465-0508.

ADDRESSES: The Draft GMP/EIS will be available for public review and comment online at the NPS PEPC Web site (http://parkplanning.nps.gov/neri), and at the park's Web site (http://www.nps.gov/neri). Printed copies (in limited quantity) and CDs can be requested by calling (304) 465-0508. Printed hardcopies can be viewed at the following locations:

New River Gorge National River—Headquarters, 104 Main Street, Glen Jean, WV 25846.

New River Gorge National River—Canyon Rim Visitor Center, 162 Visitor Center Road (off US 19, north of the New River Gorge Bridge), Lansing, WV 25862.

New River Gorge National River—Sandstone Visitor Center, Meadow Creek Road, Sandstone, WV 25958.

Raleigh County Public Library, 221 N. Kanawha Street, Beckley, WV 25801.

Summers County Public Library, 201 Temple Street, Hinton, WV 25951.

Oak Hill Public Library, 611 Main Street. Oak Hill, WV 25901.

The preferred method to comment is to submit comments electronically through the NPS PEPC Web site at http://parkplanning.nps.gov/neri. You may also send written comments to Superintendent Don Striker, New River Gorge National River, 104 Main St., Glen Jean, WV 25846. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Don Striker, Superintendent, New River Gorge National River, 104 Main Street, Glen Jean, WV 25846, (304) 465-0508.

SUPPLEMENTARY INFORMATION: Through the Draft GMP/EIS planning process, the NPS was able to develop a unified approach to managing the major changes in and adjacent to the park since the 1982 General Management Plan was prepared, to focus on protecting park natural, cultural, and scenic resources, and to identify opportunities to facilitate appropriate forms of visitor education, interpretation and use. Twelve related legislative mandates have been added since the enabling legislation was signed into law in 1978, including several boundary changes. The most recent legislation mandates the continuation of hunting within the park. The Draft GMP/EIS includes a recommendation for additional boundary changes as well as a wilderness eligibility assessment for all National Park Service lands and waters within the current park boundary.

Mary Pearson-Cooper,
Acting Regional Director, Northeast Region, National Park Service.

[FR Doc. 2010-444 Filed 1-12-10; 8:45 am]

BILLING CODE 4310-YP-P